DEPARTMENT OF COMMERCE

International Trade Administration

[A-823-812]

Investigation of Carbon and Certain Alloy Steel Wire Rod from Ukraine: Opportunity to Comment on the Status of Ukraine as a Non-Market Economy Country

AGENCY: Import Administration, International Trade Administration, Department of Commerce.

ACTION: Request for Comments.

DATES: April 19, 2002.

FOR FURTHER INFORMATION CONTACT: George Smolik, Office of Policy, Import Administration, International Trade Administration, U.S. Department of Commerce, 14th Street and Constitution Avenue, NW., Washington, DC 20230; telephone: (202) 482-1843.

SUPPLEMENTARY INFORMATION:

SUMMARY:

The Department of Commerce is requesting comments on the status of Ukraine as a non-market economy country.

The Applicable Statute

Unless otherwise indicated, all citations to the Tariff Act of 1930, as amended (the Act) are references to the provisions effective January 1, 1995, the effective date of the amendments made to the Act by the Uruguay Round Agreements Act (URAA). In addition, unless otherwise indicated, all citations to the Department of Commerce's (“Department's”) regulations are to 19 CFR part 351 (2001).

Background

On October 17, 2001, the Ministry of Economy and for European Integration Issues of Ukraine submitted a request for, and information in support of, graduation to market economy status for Ukraine, within the context of the antidumping investigation of carbon and certain alloy steel wire rod from Ukraine (“steel wire rod from Ukraine”). On November 20, 2001, Krivorozhstal, the sole respondent in steel wire rod from Ukraine, requested that the Department issue to it a market economy questionnaire. The petitioners in this investigation are Co-Steel Raritan, Inc., GS Industries, Keystone Consolidated Industries, Inc., and North Star Steel Texas, Inc. (“Petitioners”). On December 21, 2001, and March 14, 2002, Petitioners submitted comments regarding Ukraine's request for market economy graduation. On March 1 and March 18, 2002, Krivorozhstal responded to Petitioners' December 21, 2001 and March 14, 2002 submissions, respectively. On April 10, 2002, the Department placed on the record of this proceeding information that the Ministry of Economy and European Integration of Ukraine had presented to the Department on November 27, 2001 regarding its request for market economy graduation.

As indicated above, the Government of Ukraine, Krivorozhstal, and Petitioners have filed extensive information on whether Ukraine should be granted market-economy status. As explained in the Notice of Preliminary Determination of Sales at Less Than Fair Value and Postponement of Final Determination: Carbon and Certain Alloy Steel Wire Rod from Ukraine, (67 FR 17367), the Department is currently analyzing the request for market economy graduation for Ukraine. For purposes of the preliminary determination, the Department treated Ukraine as a non-market economy (“NME”) country. See Id. at 67 FR 17369.

Opportunity for Public Comment

The Department invites public comment on Ukraine's economic reform to date, as they concern the factors listed in section 771(18)(B) of the Act, which the Department must take into account in making a non-market economy country determination:

(i) The extent to which the currency of the foreign country is convertible into the currency of other countries;

(ii) the extent to which wage rates in the foreign country are determined by free bargaining between labor and management;

(iii) the extent to which joint ventures or other investments by firms of other foreign countries are permitted in the foreign country;

(iv) the extent of government ownership or control of the means of production;

(v) the extent of government control over allocation of resources and over price and output decisions of enterprises; and

(vi) such other factors as the administering authority considers appropriate.

Comments--Deadline, Format, and Number of Copies

The deadline for submission of comments will be 45 days after the date of publication of this notice in the Federal Register. All comments should be filed at the Department of Commerce Central Records Unit located at the address listed below. Rebuttal comments may be submitted up to 30 days after the date initial comments are due.

Each person submitting comments should include his or her name and address, and fully document or support all assertions and claims, using the following format: (1) Begin each comment on a separate page; (2) concisely state the issue identified and discussed in the comment and include any supporting documentation in exhibits or appendices; (3) provide a brief summary of the comment (a maximum of 3 sentences) and label this section “summary of comment;” (4) provide an index or table of contents; and (5) include the case number A-823-812 in the top right hand corner of the submission.

To simplify the processing and distribution of comments, the Department encourages the submission of documents in electronic form accompanied by an original and 5 copies in paper form. We require that documents filed in electronic form be on DOS formatted 3.5” diskettes and prepared in either WordPerfect 9 format or a format that the Word Perfect program can convert and import into Word Perfect 9. Please submit comments in separate files on the diskette.

Comments received on diskette will be made available to the public on the Internet at Import Administration's website, http://ia.ita.doc.gov. Paper copies will be available for reading and photocopying in the Central Records Unit, Room B-099, U.S. Department of Commerce, Pennsylvania Avenue and 14th Street, NW., Washington, DC 20230. Any questions concerning file formatting, document conversion, access on the Internet, or other file requirements should be addressed to Andrew Lee Beller, Import Administration Webmaster, (202) 482-0866.

This determination is issued and published in accordance with section 771(18)(c)(ii).

Dated: April 12, 2002.
Faryar Shirzad,
Assistant Secretary for Import Administration.

[FR Doc. 02-9661 Filed 4-18-02; 8:45 am]

BILLING CODE 3510-DS-S